DEPARTMENT OF DEFENSE

Department of the Navy

Notice of Availability of Government-Owned Inventions; Available for Licensing

AGENCY: Department of the Navy; DoD.

ACTION: Notice.

SUMMARY: The inventions listed below are assigned to the United States Government as represented by the Secretary of the Navy and are available for domestic and foreign licensing by the Department of the Navy.

The following patents are available for licensing: U.S. Patent No. 8,552,282: Propulsion Defeating System//U.S. Patent No. 8,575,929: Magnetic Anomaly Surveillance System Using Spherical Trilateration//U.S. Patent No. 8,577,648: Simulating Fluid Flow at a Moving Boundary//U.S. Patent No. 8,583,573: Nonparametric Mine Line Detection Using Spatial Analysis//U.S. Patent No. 8,594,457: Correlation Image Detection//U.S. Patent No. 8,616,721: Solar Awning and Method//U.S. Patent No. 8,620,082: Sonar Image Texture Segmentation//U.S. Patent No. 8,639,475: System and Method for Spatially Invariant Signal Detection//U.S. Patent No. 8,714,069: Mine Clearance System and Method//U.S. Patent No. 8,743,654: Reflectivity Maps//U.S. Patent No. 8,777,285: Underwater Cable Capture and Pass Through Device//U.S. Patent No. 8,783,202: Subsurface Oscillating Blade Propellor//U.S. Patent No. 8,794,892: Torque Nut Assembly//U.S. Patent No. 8,823,316: Thermal Effluent to Electric Energy Harvesting System//

ADDRESSES: Requests for copies of the patents cited should be directed to Office of Counsel, Naval Surface Warfare Center Panama City Division, 110 Vernon Ave., Panama City, FL 32407-7001.

FOR FURTHER INFORMATION CONTACT: Ms. Brenda Squires, Patent Administration, Naval Surface Warfare Center Panama City Division, 110 Vernon Ave., Panama City, FL 32407-7001, telephone 850-234-4646.

Authority: 35 U.S.C. 207, 37 CFR part 404.

Dated: October 24, 2016.
C. Mora,
Commander, Judge Advocate General's Corps, U.S. Navy, Federal Register Liaison Officer.

[FR Doc. 2016-26100 Filed 10-27-16; 8:45 am]

BILLING CODE 3810-FF-P